DEPARTMENT OF ENERGY

Federal Energy Regulatory Commission

[Docket No. PF08-8-000]

Northwest Pipeline GP; Notice of Intent To Prepare an Environmental Assessment for the Proposed Colorado Hub Connection Project and Request for Comments on Environmental Issues

April 21, 2008.

The staff of the Federal Energy Regulatory Commission (FERC or Commission) will prepare an environmental assessment (EA) that will discuss the potential environmental impacts of the planned Colorado Hub Connection Project (CHC). This project would involve the construction and operation of about 29 miles of natural gas pipeline and related facilities by Northwest Pipeline GP (NWP) in Rio Blanco County, Colorado. The EA will be used by the Commission in its decision-making process to determine whether the project is in the public convenience and necessity.

This notice announces the opening of the scoping process the Commission will use to gather input from the public and interested agencies on the planned project. Your input will help determine which issues need to be evaluated in the EA. Please note that the scoping period will close on May 21, 2008. Details on how to submit comments are provided in the “Public Participation” section of this notice.

This notice is being sent to affected landowners; federal, state, and local government agencies; elected officials; Native American tribes; other interested parties; and local libraries and newspapers. State and local government representatives are asked to notify their constituents of this planned project and to encourage them to comment on their areas of concern.

If you are a landowner receiving this Notice, you may be contacted by a NWP representative about the acquisition of an easement to construct, operate, and maintain the proposed pipeline facilities. NWP would seek to negotiate a mutually acceptable agreement to cover the easement, damages that may occur during construction, and any other issues raised by the landowner. The FERC encourages pipeline companies to acquire as much of the right-of-way (ROW) as possible by negotiation with the landowners. If the FERC approves the project, that approval will convey with it the right of eminent domain to secure easements for the facilities. Eminent domain is intended for use when easement negotiations fail to produce an agreement. In such instances, NWP could initiate condemnation proceedings in accordance with state law.

A fact sheet prepared by the FERC entitled “An Interstate Natural Gas Facility On My Land? What Do I Need To Know?” addresses a number of typically asked questions, including the use of eminent domain and how to participate in the FERC's proceedings. It is available for viewing on the FERC Internet Web site (http://www.ferc.gov).

Summary of the Proposed Project

NWP plans to construct and operate the following facilities:

• about 27.5 miles of 24-inch-diameter pipeline lateral, extending from NWP's interstate pipeline system in Douglas Creek south of Rangely on the west to the planned White River Hub and Enterprise Products Operating LLC's (Enterprise) Meeker Gas Processing Plant near Piceance Creek and Meeker on the east;

• interconnections with the White River Hub system, the Enterprise Plant, and NWP's system; and

• appurtenant facilities (including pressure regulation, metering, a mainline valve, and future pig launching/receiving facilities).¹

¹ A pipeline “pig” is a device to clean or inspect the interior of a pipeline. A pig launcher/receiver is an aboveground facility where pigs are inserted or retrieved from the pipeline.

The CHC would provide shippers with about 445 million dekatherms of natural gas transportation capacity per day from the planned White River Hub to NWP's mainline system. The general location of the planned facilities is shown in appendix 1.²

² The appendices referenced in this notice are not being printed in the Federal Register. Copies of all appendices are available on the Commission's Web site at the “eLibrary” link or from the Commission's Public Reference Room, 888 First Street, NE., Washington, DC 20426, or call (202) 502-8371. For instructions on connecting to eLibrary, refer to the “Additional Information” section of this notice. Copies of the appendices were sent to all those receiving this notice in the mail. Requests for detailed maps of the planned facilities should be made directly to NWP.

Land Requirements

Construction of the CHC would disturb about 480 acres overall, including the planned pipeline ROW and three aboveground facility sites (333.5 acres), temporary extra work areas along the ROW (71.4 acres), upgrades to existing access roads (up to 5 acres), and the use of seven existing contractor/pipe storage/rail offloading industrial yards (70.3 acres). Following construction, operation of the planned facilities would permanently affect about 185 acres of land, composed entirely of pipeline ROW and the aboveground facilities at each end of the pipeline. The remaining acreage disturbed during construction would be restored (as closely as practicable) to previous conditions and uses.

NWP would use a 100-foot-wide ROW during construction, but maintain either a 75-foot or 50-foot-wide permanent ROW (on private or federally administered lands, respectively) during facility operation. On the west end of the pipeline in Douglas Creek, the planned Philadelphia Creek Pressure Regulating Station and access drive would require about 0.23 and 0.41 acre, respectively. On the east end near Piceance Creek, interconnections with the Meeker Gas Processing Plant and White River Hub would require a single site (adjacent to the Gas Plant) with a short access road totaling about 1.1 acres of permanent disturbance. The third aboveground facility, a mainline valve (located immediately adjacent to a block valve owned by Enterprise) and short access road, would be sited entirely within the permanent ROW.

The EA Process

We ³ are preparing this EA to comply with the National Environmental Policy Act of 1969 (NEPA), which requires the FERC to take into account the environmental impact that could result if it authorizes NWP's planned CHC. As the lead federal agency for preparation of the EA, we are asking other federal, state, and local agencies with jurisdiction and/or special expertise with respect to environmental issues to formally cooperate with us in the preparation of the EA. Any agency that would like to request cooperating status should follow the instructions for filing comments provided below. The Department of the Interior's Bureau of Land Management (BLM) has already requested cooperating-agency status and will be assisting us in the scoping, analysis, and preparation of the EA. The EA will be used by both the FERC and the BLM (Agencies) to satisfy our NEPA requirements and support our respective decisions.

³ “We,” “us,” and “our” refer to the environmental staff of the FERC's Office of Energy Projects.

NEPA also requires the FERC to discover and address concerns the public may have about proposals. This process is referred to as “scoping.” The main goal of the scoping process is to focus the analysis in the EA on the important environmental issues. By this Notice, we are also requesting public comments on the scope of the issues to address in the EA. All comments received will be considered during the preparation of the EA.

The EA will discuss impacts that could occur as a result of the construction and operation of the planned project under these general headings:

• geology and soils;

• water resources and wetlands;

• land use, recreation, and visual quality;

• cultural resources;

• vegetation and wildlife (including threatened and endangered species and species of special concern);

• air quality and noise;

• reliability and safety.

We will also evaluate possible alternatives to the CHC or portions of the project, where necessary, and make recommendations on how to lessen or avoid impacts on the various resource areas.

Our independent analysis of the issues will be presented in the EA. Depending on the comments received during the scoping process, the EA may be published and mailed to federal, state, and local agencies, public interest groups, interested individuals, affected landowners, local libraries and newspapers, and the Commission's official service list for this proceeding. A comment period will be allotted for review if the EA is published. We will consider all comments on the EA before we make our recommendations to the Commission.

For this project, we have initiated our NEPA review prior to receiving a formal application from NWP. The purpose of our “pre-filing” review process is to involve interested stakeholders early in the project planning, and to identify and resolve issues before an application is filed with the FERC. A pre-filing docket number (PF08-8-000) has been established to place information filed by NWP and related documents issued by the FERC into the public record. Once a formal application is filed with the FERC, a new docket number will be established.

To ensure your comments are received and considered, please carefully follow the instructions in the “Public Participation” section below.

Known Environmental Issues

The western end of the planned pipeline terminates within the Canyon Pintado National Register Historic District and adjacent to an associated recreation site. Appropriate consultation and mitigation would be developed to avoid potential impacts.

Public Participation

You can make a difference by providing us with your specific comments or concerns about the planned project. By becoming a commentor, your concerns will be addressed in the EA and considered by the Agencies. You should focus on the potential environmental effects of the proposal and alternatives to the proposal, including alternative routes and aboveground facility sites, and measures to avoid or lessen environmental impact. The more specific your comments, the more useful they will be. Please carefully follow these instructions to ensure that your comments are received in time and properly recorded:

• Send an original and two copies of your letter to: Kimberly D. Bose, Secretary, Federal Energy Regulatory Commission, 888 First Street, NE., Room 1A, Washington, DC 20426;

• Label one copy of the comments for the attention of Gas Branch 1, PJ-11.1;

• Reference Docket No. PF08-8-000; and

• Mail your comments so that they will be received in Washington, DC on or before May 21, 2008.

Please note that the Commission strongly encourages electronic filing of any comments or protests to this proceeding. See Title 18 of the Code of Federal Regulations, § 385.2001(a)(1)(iii) and the instructions on the Commission's Internet Web site at http://www.ferc.gov under the “eFiling” link and the link to the User's Guide. Prepare your submission in the same manner as you would if filing on paper and save it to a file on your computer's hard drive. Before you can file comments you will need to create an account by clicking on “Login to File” and then “New User Account.” You will be asked to select the type of filing you are making. This filing is considered a “Comment on Filing.” In addition, there is a “Quick Comment” option available, which is an easy method for interested persons to submit text-only comments on a project. The Quick-Comment User Guide can be viewed at http://www.ferc.gov/docs-filing/efiling/quick-comment-guide.pdf. Quick Comment does not require a FERC eRegistration account; however, you will be asked to provide a valid e-mail address. All comments submitted under either eFiling or the Quick Comment option are placed in the public record for the specified docket.

Environmental Mailing List

As described above, we may publish and distribute the EA for comment. If you are interested in receiving an EA for review and/or comment, please return the Mailing List Return Mailer form (appendix 2). If you do not return the Return Mailer, you will be taken off the mailing list. All individuals who provide written comments will remain on our environmental mailing list for this project.

Additional Information

Additional information about the project is available from the Commission's Office of External Affairs, at 1-866-208-FERC or on the FERC Internet Web site (http://www.ferc.gov) using the “eLibrary” link. Click on the eLibrary link, then on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm. Any public meetings or site visits scheduled for this proposed project will be posted on the Commission's calendar located at http://www.ferc.gov/EventCalendar/EventsList.aspx along with other related information.

Finally, NWP has established an Internet Web site for this project at http://www.coloradohubconnection.com/. The Web site includes a project overview, status, and answers to frequently asked questions. You can also request additional information by calling NWP at 1-877-547-5304.

Kimberly D. Bose,
Secretary.

[FR Doc. E8-9303 Filed 4-28-08; 8:45 am]

BILLING CODE 6717-01-P